DEPARTMENT OF LABOR

Employment and Training Administration

[TA-W-40,018 and NAFTA-05269]

Trailmobile Trailer, LLC, Liberal, KS; Notice of Negative Determination Regarding Application for Reconsideration

By application postmarked May 14, 2002, the petitioners requested administrative reconsideration of the Department's negative determination regarding eligibility for workers and former workers of the subject firm to apply for Trade Adjustment Assistance (TAA) under petition TA-W-40,018 and North American Free Trade Agreement-Transitional Adjustment Assistance (NAFTA-TAA) under petition NAFTA-5269. The TAA and NAFTA-TAA denial notices applicable to workers of Trailmobile Trailer, LLC, Liberal, Kansas were signed on April 26, 2002 and April 29, 2002, respectively and published in the Federal Register on May 17, 2002 (67 FR 35143 & 35144, respectively).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition, filed on behalf of workers at Trailmobile Trailer, LLC, Liberal, Kansas engaged in employment related to the production of dry freight and refrigerator trailers, was denied because the “contributed importantly” group eligibility requirement of Section 222(3) of the Trade Act of 1974, as amended, was not met. The investigation revealed that the subject firm did not import dry freight trailers and refrigerator trailers during the relevant period. The investigation also revealed that the predominant cause of worker separations at the subject firm was a domestic shift of production to an affiliated facility.

The NAFTA-TAA petition for the same worker group was denied because criteria (3) and (4) of the group eligibility requirements in paragraph (a)(1) of Section 250 of the Trade Act, as amended, were not met. The investigation revealed that the subject firm neither imported dry freight or refrigerator trailers from Canada or Mexico nor shifted production of dry freight or refrigerator trailers to Canada or Mexico. The investigation further revealed that the predominant cause of worker separations at the subject firm was a domestic shift of production to an affiliated facility.

The petitioner alleges that since all (three) domestic company plants closed and the company maintains a production plant in Canada, it is only logical that subject plant production would have been shifted to the affiliated Canadian plant.

A review of the initial decision and further contact with the company show that subject plant production was shifted to Charleston, Illinois. Based on information provided by the company, the subject plant was designed to produce only refrigerated truck trailers and was the only company location to produce these products. The plant never reached full planned employment or production. The plant was built in anticipation of acquiring new customers for a fleet type refrigerated trailer. These customers did not materialize. For a short time, dry van trailers with insulated panels were built in Liberal in addition to refrigerated trailers in an attempt to bring some production into the plant. Production of the fleet type refrigerated trailers ceased as of January 12, 2001. Specialty refrigerated trailers continued to be built in the affiliated Charleston, Illinois plant. No subject plant production of refrigerated trailers was ever shifted to Canada. With the closure of the three domestic sites by the latter part of 2001, the refrigerated trailer production was eliminated by the company and not shifted to Canada. The dry van trailers (3-4 percent of plant production) accounted for an extremely small portion of the work performed at the subject plant and thus any potential imports of this product cannot be considered as contributing importantly to the layoffs at the subject plant.

The petitioner further indicated that the plant worked in concert with an affiliated plant located in Missisaugua (Toronto), Canada and that on several occasions the plant sent equipment used in the trailer manufacturing to Canada, such as a vacuum lifter for roof mounting. The petitioner also indicated that one of the plant's C-frames for hydraulic punch Huck units was also sent to Canada.

The Canadian plant did not produce the major product the subject plant produced (refrigerated trailers) and therefore the working of the two plants in concert is not relevant in meeting the eligibility requirements of Section 222 or Section 250 of the Trade Act. Also, any machinery shipped to Canada was used to produce products other than those produced by the subject plant, and thus are not relevant factors in meeting eligibility requirements of Section 222 or Section 250 of the Trade Act.

Conclusion

After review of the application and investigative findings, I conclude that there has been no error or misinterpretation of the law or of the facts which would justify reconsideration of the Department of Labor's prior decisions. Accordingly, the application is denied.

Signed at Washington, DC, this 26th day of July, 2002.
Edward A. Tomchick,
Director, Division of Trade Adjustment Assistance.

[FR Doc. 02-19964 Filed 8-6-02; 8:45 am]

BILLING CODE 4510-30-P